DEPARTMENT OF TRANSPORTATION

Federal Motor Carrier Safety Administration

[Docket No. FMCSA-2005-22660]

Hours of Service of Drivers: United States Postal Service Application for Exemption

AGENCY: Federal Motor Carrier Safety Administration (FMCSA), DOT.

ACTION: Notice of application for exemption; request for comments.

SUMMARY: FMCSA announces that it has received an application for exemption from the hours-of-service (HOS) requirements from the United States Postal Service (USPS) on behalf of motor carriers that transport mail under contract for USPS. USPS requests that some of its contract motor carriers be allowed to operate under the HOS rules in effect prior to January 4, 2004. USPS believes the exemption would likely achieve a level of safety equivalent to, or greater than, the level achieved under the HOS rules applicable to operators of property-carrying vehicles rules after January 4, 2004. FMCSA requests public comment on the USPS application for exemption.

DATES: Comments must be received on or before December 16, 2005.

ADDRESSES: You may submit comments identified by DOT DMS Docket Number FMCSA-2005-22660 using any of the following methods:

• Web site: http://dmses.dot.gov/submit/. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want us to notify you that we received your comments, please include a self-addressed, stamped envelope or postcard or print the acknowledgement page that appears after submitting comments on-line.

Privacy Act: Anyone may search the electronic form of all comments received into any of DOT's dockets by the name of the individual submitting the comment (or of the person signing the comment, if submitted on behalf of an association, business, labor union, or other entity). You may review DOT's complete Privacy Act Statement in the Federal Register published on April 11, 2000 (65 FR 19477, Apr. 11, 2000). This statement is also available at http://dms.dot.gov.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@fmcsa.dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. On December 8, 1998, the Federal Highway Administration's Office of Motor Carriers, the predecessor to FMCSA, published an interim final rule implementing sec. 4007 (63 FR 67600). On August 20, 2004, FMCSA published a final rule (69 FR 51589) on this subject. Under this rule, FMCSA must publish a notice of each exemption request in the Federal Register (49 CFR 381.315(a)). The agency must provide the public an opportunity to inspect the information relevant to the application, including any safety analyses that have been conducted. The agency must also provide an opportunity for public comment on the request.

The agency reviews the safety analyses and the public comments, and determines whether granting the exemption would likely achieve a level of safety equivalent to, or greater than, the level that would be achieved by the current regulation (49 CFR 381.305). The decision of the agency must be published in the Federal Register (49 CFR 381.315(b)). If the agency denies the request, it must state the reason for doing so. If the agency grants the exemption, the notice must specify the person or class of persons receiving the exemption, and the regulatory provision or provisions from which exemption is being granted. The notice must also specify the effective period of the exemption (up to 2 years), and explain the terms and conditions of the exemption. The exemption may be renewed (49 CFR 381.300(b)).

Request for Exemption

The Federal HOS rules are generally applicable to motor carriers and drivers operating commercial motor vehicles, as defined in 49 CFR 390.5, in interstate commerce. However, transportation performed by Federal, State or local government is exempt from requirements under 49 CFR parts 390 through 399, including all HOS requirements under 49 CFR part 395 [§ 390.3(f)(2)]. Since USPS is an independent agency of the executive branch of the United States government, transportation performed by USPS qualifies for the § 390.3(f)(2) exemption. Nonetheless, any motor carrier under contract with the USPS to transport its mail interstate—but which retains full responsibility for its CMVs, such that the transportation is not considered as performed by the USPS—remains subject to 49 CFR parts 300-399, including the HOS rules. The USPS contracts with motor carriers to perform interstate delivery of U.S. mail under such conditions, and has requested exemption from FMCSA's current HOS rules, allowing some of these motor carriers and drivers to operate under those HOS rules in effect prior to January 4, 2004.

USPS requests the exemption apply to an unspecified number of motor carriers operating under approximately 5,100 separate contracts. USPS did not specify the number of drivers of property-carrying vehicles to be allowed to operate under the HOS requirements in effect prior to January 4, 2004. The HOS limits requested under the exemption for such drivers would be the same as current HOS limits for drivers of passenger-carrying vehicles.

USPS states the motor carriers under contract conduct short-haul operations with an average delivery route of 61-miles roundtrip. USPS describes the drivers' schedules as “split shift,” but does not provide any details about the typical work schedule for drivers working on the contracted routes. Under the terms of the USPS contract, drivers are required to arrive and depart from postal facilities on schedule since deviation from the schedule would result in congestion at USPS trailer yards.

USPS believes the exemption would achieve a level of safety equivalent to, or greater than, the level of safety obtained under the current 14-hour rule (which prohibits operators of property-carrying vehicles from driving after the 14th hour of coming on duty) because these drivers would be able to return home at the end of each work day rather than having to stay away from home overnight.

A copy of the USPS exemption application is available for review in the docket for this notice.

Request for Comments

In accordance with 49 U.S.C. 31315(b)(4) and 31136(e), FMCSA requests public comment on USPS's application for exemption from the 49 CFR part 395 HOS requirements. The agency will consider all comments received by close of business on December 16, 2005. Comments will be available for examination in the docket at the location listed under the ADDRESSES section of this notice. The agency will file comments received after the comment closing date in the public docket, and will consider them to the extent practicable. In addition to late comments, FMCSA will also continue to file, in the public docket, relevant information that becomes available after the comment closing date. Interested persons should monitor the public docket for new material.

Issued on: November 8, 2005.
Annette M. Sandberg,
Administrator.

[FR Doc. 05-22648 Filed 11-15-05; 8:45 am]

BILLING CODE 4910-EX-P